DEPARTMENT OF LABOR

Employment and Training Administration

Notice of Determinations Regarding Eligibility to Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of October 15 through October 19, 2007.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

None.

The following certifications have been issued. The requirements of Section 222(a)(2)(B) (shift in production) of the Trade Act have been met.

TA-W-62,117; Intasco USA, Port Huron, MI: September 6, 2006.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-62,005; Novacel, Inc., Newton, MA: September 30, 2007.

TA-W-62,025; Seminole Tubular Products—Wheatland Tube Co., John Maneely Company, Houston, TX: August 20, 2006.

TA-W-62,225; Delphi Corporation, East River Lab Facility, Moraine, OH: September 28, 2006.

TA-W-62,228; Waverly Mills, Inc., A Subsidiary of R.J. Kunic and Co., Laurinburg, NC: September 26, 2006.

TA-W-62,249; Fiskars Brands, Inc., Sauk City, WI: October 3, 2006.

TA-W-62,275; Hubbell Power Systems, Inc., Connectors Business Unit, Workforce Personnel, Clanton, AL: October 5, 2006.

TA-W-62,299; GDX Automotive, Inc., North American Division, A Wholly Owned Subsidiary of GDX Automotive North America, Batesville, AR: October 11, 2006.

TA-W-61,860; Laser Die and Engineering, A Subsidiary of Hi-Tec Enterprises, Hi-Tec Employment Services, LLC, Kentwood, MI: July 20, 2006.

TA-W-61,860A; J-Tec Products Co., A Subsidiary of Hi-Tec Enterprises, Hi-Tec Employment Services, LLC, Kentwood, MI: July 20, 2006.

TA-W-62,108; Vermont Plywood, LLC, Hancock, VT: September 4, 2006.

TA-W-62,162; Through The Barn Door Furniture Co., Henderson, NC: September 18, 2006.

TA-W-62,182; Ideal Tool Company, Inc., Tooling Division, On-Site Leased Workers From M-Ploy Temporaries, Meadville, PA: September 18, 2006.

TA-W-62,218; Neilsen Manufacturing, Inc., Salem, OR: November 9, 2007.

The following certifications have been issued. The requirements of Section 222(a)(2)(B) (shift in production) and Section 246(a)(3)(A)(ii) of the Trade Act have been met.

TA-W-62,062; IPC Command Systems, A Division of IPC Information Systems, LLC, Mount Laurel, NJ: August 22, 2006.

TA-W-62,209; Lear Corporation, Seating Systems Division, Walker, MI: September 25, 2006.

TA-W-62,224; Porter Engineered Systems Ohio, Including Global Technical Recruiters, Solon, OH: September 28, 2006.

TA-W-62,235; Sanmina-SCI, Enterprise Computing, Remedy, Fountain, CO: September 13, 2007.

TA-W-62,296; Delphi Corporation #1, Powertrain Division, Oak Creek, WI: October 3, 2006.

TA-W-62,192; TMP Directional Marketing, LLC, Graphics Division, Fort Wayne, IN: September 19, 2006.

TA-W-62,203; HDM Furniture Industries, Inc., Plant 43 Morganton Casegoods, Manpower, Friday, etc., Morganton, NC: September 25, 2006.

TA-W-62,208; Tyco Valves and Controls, Manpower, Adecco, Resource Mfg & All Tech, Houston, TX: September 25, 2006.

TA-W-62,236; AB Automotive, Inc., On-Site Leased Workers From Corestaff Services and Manpower Services, Smithfield, NC: September 30, 2006.

TA-W-62,301; AGC Chemicals Americas, Inc., Chemicals Division, Bayonne, NJ: October 10, 2006.

The following certifications have been issued. The requirements of Section 222(b) (supplier to a firm whose workers are certified eligible to apply for TAA) and Section 246(a)(3)(A)(ii) of the Trade Act have been met.

TA-W-61,639; Hydro Aluminum North America, Inc., Casting and Extrusion Divisions, Ellenville, NY: May 30, 2007.

TA-W-62,137; Drake Extrusion, Inc., Div. of Chapelthorpe, Ridgeway, VA: September 11, 2006.

TA-W-62,285; Carolina Textile Company, Inc., Dobson, NC: October 1, 2006.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. The firm does not have a significant number of workers 50 years of age or older.

TA-W-62,117; Intasco USA, Port Huron, MI.

The Department has determined that criterion (2) of Section 246 has not been met. Workers at the firm possess skills that are easily transferable.

None.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-62,017; Fargo Electronics, A Subsidiary of HID Global, Eden Prairie, MN.

TA-W-62,133; Spectrum Yarns, Inc., Kings Mountain, NC.

TA-W-62,229; Learjet, Inc., A Subsidiary of Bombardier, Inc., Wichita, KS.

The investigation revealed that criteria (a)(2)(A)(I.B.) (Sales or production, or both, did not decline) and (a)(2)(B)(II.B.) (shift in production to a foreign country) have not been met.

None.

The investigation revealed that criteria (a)(2)(A)(I.C.) (increased imports) and (a)(2)(B)(II.B.) (shift in production to a foreign country) have not been met.

TA-W-61,862; OEM/Erie, Inc., Erie, PA.

TA-W-61,902; Gates Corporation, Power Transmission Division, Moncks Corner, SC.

TA-W-61,936; Gruber Systems, Inc., Valencia, CA.

TA-W-62,085; Smurfit Stone Container Corporation, Container Division, Columbia, SC.

TA-W-62,101; American Woodmark, Hardy County Plant, Moorefield, WV.

TA-W-62,115; Rheem Sales Company, Air Conditioning Division, A Subsidiary of Rheem Mfg. Co., Milledgeville, GA.

TA-W-62,119; Cygne Design, Commerce, CA.

TA-W-62,216; Woolrich, Inc, Corporate Headquarters, Woolrich, PA.

TA-W-62,271; Ravenwood Specialty Services, Inc., Ravenswood, WV.

The workers' firm does not produce an article as required for certification under Section 222 of the Trade Act of 1974.

TA-W-61,990; CDI Corporation, CDI IT Solutions (IMB NE), Fishkill, NY.

TA-W-62,166; Thompson Scientific, Thompson Scientific IDPO, Cherry Hill, NJ.

TA-W-62,199; Faith Technologies, Appleton, WI.

TA-W-62,252; Gavin Chevrolet Buick Pontiac Inc, Middleville, MI.

The investigation revealed that criteria of Section 222(b)(2) has not been met. The workers' firm (or subdivision) is not a supplier to or a downstream producer for a firm whose workers were certified eligible to apply for TAA.

TA-W-61,669; Superior Mills, Inc., Marion, VA.

I hereby certify that the aforementioned determinations were issued during the period of October 15 through October 19, 2007. Copies of these determinations are available for inspection in Room C-5311, U.S. Department of Labor, 200 Constitution Avenue, NW., Washington, DC 20210 during normal business hours or will be mailed to persons who write to the above address.

Dated: October 25, 2007.
Ralph DiBattista,
Director, Division of Trade Adjustment Assistance.

[FR Doc. E7-21353 Filed 10-30-07; 8:45 am]

BILLING CODE 4510-FN-P